DEPARTMENT OF DEFENSE

Office of the Secretary

[Docket ID DoD-2020-OS-0056]

Privacy Act of 1974; System of Records

AGENCY: Office of the Under Secretary of Defense (Comptroller) (OUSD(C)), Department of Defense (DoD).

ACTION: Notice of a new System of Records.

SUMMARY: The Office of the Secretary of Defense (OSD) is adding a new System of Records entitled, “Financial Management Online (FM Online), DUSDC 03.” The DoD is required to strengthen the professional development of the DoD financial management workforce and to ensure DoD financial managers are properly trained to meet current and future Warfigher support requirements. The Defense Financial Management Certification Program (DFMCP) is the approved strategy to meet this requirement.

DATES: This new System of Records is effective upon publication; however, comments on the Routine Uses will be accepted on or before July 2, 2020. The Routine Uses are effective at the close of the comment period.

ADDRESSES: You may submit comments, identified by docket number and title, by any of the following methods:

• Federal Rulemaking Portal: https://www.regulations.gov.

Follow the instructions for submitting comments.

• Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Mrs. Luz D. Ortiz, Chief, Records, Privacy and Declassification Division (RPDD), 1155 Defense Pentagon, Washington, DC 20311-1155, or by phone at (571) 372-0478.

SUPPLEMENTARY INFORMATION: The DFMCP implements DoD Instruction (DoDI) 1300.26, Operation of the DoD Financial Management Certification Program (DFMCP) and meets the business requirement to comply with 10 U.S.C. 1599d, Financial Management Positions: Authority to Prescribe Professional Certification and Credential Standards, as a condition of employment, authorizing the Secretary of Defense to establish a certification program for the 57,000 Financial Management (FM) workforce in order to improve audit readiness and analytic capability. The DFMCP is the approved strategy to meet this requirement and supports the DoDI 1400.25, Volume 250, DoD Civilian Personnel Management System: Civilian Strategic Human Capital Planning (SHCP).

FM Online, originally launched in 2011, is an online professional development portal for the DoD FM Workforce. The future state will enhance FM Online by adding a DoD FM Certification Tracking and Reporting module, thus creating a requirement to house Personally Identifiable Information (PII).

FM Online is sponsored by the OUSD(C). FM Online will support the DoD in administering a variety of professional development programs and tools to support the DoD Financial Management workforce. It will enable the OUSD(C) to identify skill and competency gaps and strengths and provide training and development tools to prepare the workforce to meet current and future requirements to support the mission. FM Online will support the mandatory three level professional certification program applicable to 57,000 members of the FM Workforce. Members must achieve the appropriate certification level for their positions within two years of notification of applicable certification requirements (or the period of any extension). Also, members must sustain their FM certification by the end of each two-year cycle by accomplishing Continuing Education and Training (CET) requirements.

The OSD notices for Systems of Records subject to the Privacy Act of 1974, as amended, have been published in the Federal Register and are available from the address in FOR FURTHER INFORMATION CONTACT or on the Defense Privacy, Civil Liberties, and Transparency Division website at https://dpcld.defense.gov.

The proposed system reports, as required by the Privacy Act, as amended, were submitted on April 13, 2020, to the House Committee on Oversight and Reform, the Senate Committee on Governmental Affairs, and the Office of Management and Budget (OMB) pursuant to Section 6 of OMB Circular No. A-108, “Federal Agency Responsibilities for Review, Reporting, and Publication under the Privacy Act,” revised December 23, 2016 (December 23, 2016, 81 FR 94424).

Dated: May 28, 2020.
Aaron T. Siegel,
Alternate OSD Federal Register Liaison Officer, Department of Defense.

SYSTEM NAME AND NUMBER:

Financial Management Online (FM Online), DUSDC 03.

SECURITY CLASSIFICATION:

Unclassified.

SYSTEM LOCATION:

Tinker Air Force Base, 8705 Industrial Blvd., Bldg. 3900, Oklahoma City, OK 73145-9037; and Maxwell Air Force Base, Gunter Annex, 401 E Moore Dr., Bldg. 857, Montgomery, AL 36114-6343.

SYSTEM MANAGER(S):

Program Manager, Financial Workforce Management, Human Capital and Resource Management Directorate, Office of the Under Secretary of Defense (Comptroller) (OUSD(C)), Room 3D755 Pentagon, Washington, DC 20301-1100. Email: osd.pentagon.ousd-c.mbx.fwmd@mail.mil; Telephone: (703) 697-0841.

AUTHORITY FOR MAINTENANCE OF THE SYSTEM:

5 U.S.C. Ch. 41: Training; 10 U.S.C. 1599d, Financial Management Positions: Authority to Prescribe Professional Certification and Credential Standards; Department of Defense Instruction (DoDI) 1300.26, Operation of the DoD Financial Management Certification Program (DFMCP); DoDI 1400.25, Volume 250, DoD Civilian Personnel Management System: Civilian Strategic Human Capital Planning (SHCP).

PURPOSE(S) OF THE SYSTEM:

To strengthen the professional development of the DoD Financial Management (FM) workforce and to ensure DoD financial managers are properly trained to meet current and future Warfighter support requirements. Records may also be used as a management tool for statistical analysis, tracking, reporting, evaluating program effectiveness, conducting research, and business management.

CATEGORIES OF INDIVIDUALS COVERED BY THE SYSTEM:

DoD FM military and civilian personnel obtaining and maintaining financial management certification.

CATEGORIES OF RECORDS IN THE SYSTEM:

Name, DoD Identification (DoD ID) Number; official duty address; work email address; official duty telephone; position, duty assignment, title, supervisor series; rank, grade; education level; Defense Civilian Personnel Data System (DCPDS) Identification Number, FM Online Unique Identification Number; DoD FM Certification Program (DFMCP) level, certificates of training completion; Non-Appropriated Funds Instrumentality (NAFI) number.

RECORD SOURCE CATEGORIES:

Individual; Component; DCPDS; and Military Personnel Data System (MilPDS).

ROUTINE USES OF RECORDS MAINTAINED IN THE SYSTEM, INCLUDING CATEGORIES OF USERS AND THE PURPOSES OF SUCH USES:

In addition to those disclosures generally permitted under 5 U.S.C. 552a(b) of the Privacy Act of 1974, as amended, the records contained herein may specifically be disclosed outside the DoD as a routine use pursuant to 5 U.S.C. 552(b)(3) as follows:

a. To contractors, grantees, experts, consultants, students, and others performing or working on a contract, service, grant, cooperative agreement, or other assignment for the federal government when necessary to accomplish an agency function related to this System of Records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines that the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a Member of Congress or staff acting upon the Member's behalf when the Member or staff requests the information on behalf of, and at the request of, the individual who is the subject of the record.

g. To appropriate agencies, entities, and persons when (1) the DoD suspects or confirms a breach of the System of Records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Electronic storage media.

POLICIES AND PRACTICES FOR RETRIEVAL OF RECORDS:

Information is retrieved by the individual's full name, DoD ID Number, office name where they were assigned or affiliated.

POLICIES AND PRACTICES FOR RETENTION AND DISPOSAL OF RECORDS:

Temporary. Cutoff annually, inactive accounts will be marked after 3 years. Destroy 6 years after inactivity.

ADMINISTRATIVE, TECHNICAL, AND PHYSICAL SAFEGUARDS:

Records are maintained in DoD controlled facilities. Physical entry is restricted by the use of locks, security guards, card swipe, closed circuit TV, and identification badges. Facilities are accessible only to authorized personnel. Access to records is limited to personnel responsible for servicing the record in performance of their official duties and who are properly screened and cleared for need-to-know. Access to system data is restricted through the use of a DoD issued Common Access Card (CAC), login pin and encryption. Access requires token authentication. Periodic security audits, regular monitoring of user's security practices and methods are applied to ensure only authorized personnel access system records.

RECORD ACCESS PROCEDURES:

Individuals seeking access to records about themselves should address written inquiries to the Office of the Secretary of Defense/Joint Staff Freedom of Information Act, Requester Service Center, Office of Freedom of Information, 1155 Defense Pentagon, Washington, DC 20301-1155. Signed, written requests should contain individual's full name, DoD ID Number, office name where they were assigned or affiliated, and office address and telephone number applicable to the period during which the records were maintained and the System of Records name and number. In addition, the requestor must provide either a notarized statement or a declaration made in accordance with 28 U.S.C. 1746, using the following format:

If executed within the United States, its territories, possessions, or commonwealths: “I declare (or certify, verify, or state) under penalty of perjury that the foregoing is true and correct. Executed on (date). (Signature).”

If executed outside the United States: “I declare (or certify, verify, or state) under penalty of perjury under the laws of the United States of America that the foregoing is true and correct. Executed on (date). (Signature).”

CONTESTING RECORD PROCEDURES:

The DoD rules for accessing records, for contesting contents and appealing initial agency determinations are published in 32 CFR part 310, or may be obtained from the system manager.

NOTIFICATION PROCEDURE:

Individuals seeking to determine whether information about themselves is contained in this System of Records should address written inquiries to Office of the Secretary of Defense/Comptroller Human Capital and Resource Management Directorate, Financial Workforce Management Division, 1100 Defense Pentagon, Washington, DC 20301-1100. Signed written requests from individuals must include the following information for their records to be located: Full name, DoD ID Number, signature, available information regarding the type of information requested, the reason the individual believes this system contains information about him or her, the address to which the information should be sent, and System of Records name and number. In addition, the requestor must provide either a notarized statement or a declaration made in accordance with 28 U.S.C. 1746, using the following format:

If executed within the United States, its territories, possessions, or commonwealths: “I declare (or certify, verify, or state) under penalty of perjury that the foregoing is true and correct. Executed on (date). (Signature).”

If executed outside the United States: “I declare (or certify, verify, or state) under penalty of perjury under the laws of the United States of America that the foregoing is true and correct. Executed on (date). (Signature).”

EXEMPTIONS PROMULGATED FOR THE SYSTEM:

None.

HISTORY:

None.

[FR Doc. 2020-11860 Filed 6-1-20; 8:45 am]

BILLING CODE 5001-06-P